DEPARTMENT OF THE INTERIOR

National Park Service

[NPS-USPP-14579; PPWOUSPPS1, PPMPRPP02.Y00000]

Information Collection Request Sent to the Office of Management and Budget (OMB) for Approval; United States Park Police Personal History Statement

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on January 31, 2014. We may not conduct or sponsor and a person is not required to respond to a collection of information unless it displays a currently valid OMB Control Number. However, under OMB regulations, we may continue to conduct or sponsor this information collection while it is pending at OMB.

DATES: You must submit comments on or before February 26, 2014.

ADDRESSES: Send your comments and suggestions on this information collection to the Desk Officer for the Department of the Interior at OMB-OIRA at (202) 395-5806 (fax) or OIRA_Submission@omb.eop.gov (email). Please provide a copy of your comments to the Information Collection Clearance Officer, National Park Service, 1849 C Street NW. (2601), Washington, DC 20240 (mail); or madonna_baucum@nps.gov (email). Please reference OMB Control Number 1024-0245 in the subject line of your comments.

FOR FURTHER INFORMATION CONTACT: To request additional information about this ICR, contact Major Scott Fear, United States Park Police, 1100 Ohio Drive SW., Washington, DC 20242 (mail); or at Scott_Fear@nps.gov (email); or at (202) 610-3529 (telephone). You may review the ICR online at http://www.reginfo.gov. Follow the instructions to review Department of the Interior collections under review by OMB.

SUPPLEMENTARY INFORMATION:

I. Abstract

The United States Park Police (USPP) is a unit of the National Park Service, Department of the Interior, with jurisdiction in all National Park Service areas and certain other Federal and State lands. The USPP are highly trained, professional police officers who prevent and detect criminal activity; conduct investigations; apprehend individuals suspected of committing offenses against Federal, State, and local laws; provide protection to the President of the United States and visiting dignitaries; and provide protective services to some of the most recognizable monuments and memorials in the world.

Applicants for USPP officer positions must complete and pass a competitive written examination, an oral interview, a medical examination and psychological evaluation, and a battery of physical fitness and agility tests. As part of this application process, we use USPP Form 1 (United States Park Police Personal History Statement) to collect detailed personal history information from applicants. Investigators verify the information provided, and we use it to determine an applicant's suitability for a USPP officer position. The information we collect includes, but is not limited to:

• Personal background information, including financial data and residence history.

• Selective Service information and military data.

• References.

• Education and employment information.

• Driving record, arrest/conviction data, and criminal history information.

• Illegal drug usage.

• Alcohol usage.

• Gambling information.

• Miscellaneous information, such as firearm permits, special skills, other languages, hobbies and interests, other enforcement agencies where applicant applied, and whether or not applicant previously applied for a USPP officer position.

II. Data

OMB Control Number: 1024-0245.

Title: United States Park Police Personal History Statement.

Service Form Number(s): USPP Form 1.

Type of Request: Extension of a currently approved collection.

Description of Respondents: Candidates for employment as a park police officer.

Respondent's Obligation: Required to obtain or retain a benefit.

Frequency of Collection: On occasion.

Estimated Annual Number of Responses: 2,500.

Estimated Completion Time per Response: 8 hours.

Estimated Total Annual Burden Hours: 20,000.

Estimated Annual Nonhour Burden Cost: $227,500, primarily for costs (1) associated with printing and notarizing the application and (2) incurred to provide supporting documentation.

III. Comments

On August 29, 2013, we published in the Federal Register (78 FR 53478) a notice of our intent to request that OMB renew approval for this information collection. In that notice, we solicited comments for 60 days, ending on October 28, 2013. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: January 17, 2014.
Madonna L. Baucum,
Information Collection Clearance Officer, National Park Service.

[FR Doc. 2014-01455 Filed 1-24-14; 8:45 am]

BILLING CODE 4310-EH-P